DEPARTMENT OF AGRICULTURE

Forest Service

Yavapai Resource Advisory Committee

AGENCY: Forest Service, USDA.

ACTION: Notice of meeting.

SUMMARY: The Yavapai Resource Advisory Committee (RAC) will meet in Prescott, Arizona. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: http://www.fs.usda.gov/main/prescott/workingtogether/advisorycommittees.

DATES: The meeting will be held on December 11, 2019, from 8:30 a.m. to 12:30 p.m.

All RAC meetings are subject to cancellation. For the status of meeting prior to attendance, please contact Debbie Maneely, RAC Coordinator, by phone at 928-443-8130 or via email at debbie.maneely@usda.gov.

ADDRESSES: The meeting will be held at the Prescott Fire Center, 2400 Melville Road, Prescott, Arizona 86301.

Written comments may be submitted as described under Supplementary Information. All comments, including names and addresses when provided, are placed in the record and are available for public inspection and copying. The public may inspect comments received at the Prescott National Forest, Supervisor Office, 344 South Cortez Street, Prescott, Arizona 86303. Please call ahead at 928-443-8000 to facilitate entry into the building.

FOR FURTHER INFORMATION CONTACT: Debbie Maneely, RAC Coordinator, Prescott National Forest, 2971 Willow Creek Road, Building 4, Prescott, Arizona 86301, by phone at 928-443-8130 or via email at debbie.maneely@usda.gov.

SUPPLEMENTARY INFORMATION: The purpose of the meeting is to:

1. Welcome, introduce, and have orientation of RAC members, and

2. Review seven Title II projects, and

3. Rank and select round six Title II projects.

The meeting is open to the public. The agenda will include time for people to make oral statements of three minutes or less. Individuals wishing to make an oral statement should request in writing by November 26, 2019, to be scheduled on the agenda. Anyone who would like to bring related matters to the attention of the committee may file written statements with the committee staff before or after the meeting. Written comments and requests for time for oral comments must be sent to Debbie Maneely, RAC Coordinator, Prescott National Forest, 2971 Willow Creek Road, Building 4, Prescott, Arizona 86301, by phone at 928-443-8130 or via email at debbie.maneely@usda.gov.

Meeting Accommodations: If you are a person requiring reasonable accommodation, please make requests in advance for sign language interpreting, assistive listening devices or other reasonable accommodation for access to the facility or proceedings by contacting Debbie Maneely, RAC Coordinator, by phone at 928-443-8130 or via email at debbie.maneely@usda.gov. All reasonable accommodation requests are managed on a case by case basis.

Dated: October 31, 2019.
Cikena Reid,
USDA Committee Management Officer.

[FR Doc. 2019-24412 Filed 11-7-19; 8:45 am]

BILLING CODE 3411-15-P